DEPARTMENT OF LABOR

Employment and Training Administration

Notice of Availability of Funds and Solicitation for Grant Applications for Indian and Native American Employment and Training Programs

AGENCY: Employment and Training Administration, Labor.

ACTION: Notice of Solicitation for Grant Applications (SGA).

Funding Opportunity Number: SGA/DFA PY 13-02

SUMMARY: The Employment and Training Administration (ETA), U.S. Department of Labor, announces the availability of approximately $58 million in grant funds authorized by the Workforce Investment Act (WIA) Section 166 for the Indian and Native American Program to fund approximately 170 grants—$46 million to fund the Comprehensive Service Program (CSP) serving adult participants and $12 million to fund the Supplemental Youth Service Program (SYSP) serving summer youth participants. Awards under the CSP are anticipated to range from approximately $13,000 to $5 million. Awards for the SYSP are anticipated to range from approximately $1,000 to $2.6 million.

The complete SGA and any subsequent SGA amendments in connection with this solicitation are described in further detail on ETA's Web site at http://www.doleta.gov/grants/ or on http://www.grants.gov. The Web sites provide application information, eligibility requirements, review and selection procedures, and other program requirements governing this solicitation.

DATES: The closing date for receipt of applications under this announcement is April 23, 2014. Applications must be received no later than 4:00:00 p.m. Eastern Time.

FOR FURTHER INFORMATION CONTACT: Serena Boyd, 200 Constitution Avenue NW., Room N-4716, Washington, DC 20210; Telephone: 202-693-3338.

Signed March 25, 2014 in Washington, DC
Eric D. Luetkenhaus,
Grant Officer, Employment and Training Administration.

[FR Doc. 2014-07074 Filed 3-28-14; 8:45 am]

BILLING CODE 4510-FN-P